DEPARTMENT OF TRANSPORTATION

Federal Aviation Administration

Notice of Availability for Qualified RNP SAAAR Approval Consultants

AGENCY: Federal Aviation Administration (FAA), DOT.

ACTION: Notice of availability for qualified RNP SAAAR Approval Consultants to aid operators in the RNP SAAAR approval process.

SUMMARY: The Federal Aviation Administration (FAA) announced today that it is seeking to identify additional qualified industry consultants to assist 14 Code of Federal Regulations (14 CFR) part 91; 121, 125, 129, 135 operators as they pursue approval to conduct Required Navigation Performance (RNP) Special Aircraft and Aircrew Authorization Required (SAAAR) approaches. Provisions for gaining those approvals are contained within FAA Advisory Circular (AC) 90-101, Approval Guidance for RNP Procedures with SAAAR. Applicants who meet certain qualifications will be permitted to enter into an agreement with the FAA to be listed as RNP SAAAR Approval Consultants.

SUPPLEMENTARY INFORMATION: RNP SAAAR criteria provide unprecedented flexibility in the design of instrument approach procedures. Performance requirements to conduct an approach are defined, and aircraft are qualified against these requirements. RNP SAAAR approaches include unique characteristics that require special aircraft and aircrew capabilities and authorization. The AC 90-101 RNP SAAAR approval process can be complex and success in the process depends on the quality of the application. The FAA will continue to develop and maintain a list of qualified AC 90-101 RNP SAAAR Approval Consultants to assist in the approval process and expedite operator applications.

(a) Eligibility Requirements: To be identified as an FAA-qualified RNP SAAAR Approval Consultant, the following qualifications must be met:

(1) Have understanding of AC 90-101, as revised, to include the individual appendices. This includes a thorough understanding of the approval process.

(2) At least two years experience working with RNP SAAAR or equivalent procedures.

(3) Upon selection for the program, successfully complete an RNP SAAAR Approval Process seminar.

(4) Have operations and airworthiness personnel qualified through training, experience, and expertise in 14 CFR part 91,121,125,129 and/or 135 operations, or equivalent experience.

(b) Required Documentation: An applicant to become an RNP SAAAR Approval Consultant must submit a formal letter of request in addition to the following documents:

(1) Statement substantiating that the RNP SAAAR Approval Consultant applicant meets eligibility requirements as stated in item (a) above.

(2) Supplemental statement including the names, signatures, and titles of those persons who will perform the authorized functions, and substantiating that they meet the eligibility requirements.

(3) RNP SAAAR Approval Consultant Operations Manual.

(4) References.

(5) Certification that, to the best of its knowledge and belief, the persons serving as management of the organization have not been convicted of, or had a civil or administrative finding rendered against, them for: Commission of fraud, embezzlement, theft, forgery, bribery, falsification or destruction of records, making false statements, or receiving stolen property.

(c) How to Apply: An RNP SAAAR Consultant applicant must submit all required documents for consideration before being identified as an FAA-qualified RNP SAAAR Approval Consultant to: Mr. Mark Steinbicker, Federal Aviation Administration, Flight Technologies and Procedures Division, AFS-400, 470 L'Enfant Plaza, Suite 4102, Washington, DC 20024.

(d) Application Process: Upon receipt of the application, AFS-400, will:

(1) Ensure the RNP SAAAR Approval Consultant application package contains all the required documents as listed in item (b) above.

(2) Evaluate documents for accuracy.

(3) Ensure the RNP SAAAR consultant application package contains all the eligibility requirements as listed in item (a) above.

(4) Contact the applicant's personal references.

(5) Conduct a personal interview with the applicant; including those persons within organizations, if any, who will perform authorized functions.

(e) See the following Web site for additional information, http://0frwebgate.access.gpo.gov.library.colby.edu/cgibin/leaving.cgi?from=leavingFR.html&log=linklog&to=http://www.faa.gov/about/office_org/headquarters_offices/avs/offices/afs/afs400/afs47O/rnp/.

Authority: The FAA is authorized to enter into this Agreement by 49 U.S.C. 106(1), (6) and (m).

ADDRESSES: The FAA will accept a formal letter of application for Qualified RNP SAAAR Approval Consultants and must be received on or before March 31, 2010. The formal letter of application must be sent to: Mr. Mark Steinbicker, Federal Aviation Administration, Flight Technologies and Procedures Division, AFS-400, 470 L'Enfant.Plaza, Suite 4102, Washington, DC 20024.

FOR FURTHER INFORMATION CONTACT: Mr. Mark Steinbicker, Federal Aviation Administration, Flight Technologies and Procedures Division, AFS-400, 470 L'Enfant Plaza, Suite 4102, Washington, DC 20024, (202) 385-4586.

Issued in Washington DC on February 16, 2010.
John M. Allen,
Director, Flight Standards Service.

[FR Doc. 2010-4385 Filed 3-3-10; 8:45 am]

BILLING CODE 4910-13-M